Title 3—

The President

Proclamation 8227 of March 20, 2008

Greek Independence Day: A National Day of Celebration of Greek and American Democracy, 2008

By the President of the United States of America

A Proclamation

On Greek Independence Day, we recognize the important contributions Greek Americans have made to our national character, celebrate the deep friendship between our two countries, and honor the anniversary of the Greek call for independence.

The United States and Greece share a close relationship based on our common belief in the power of freedom. The ancient Athenians gave birth to the principles of democracy, and America's Founding Fathers were inspired by Greek ideals that honored and respected human dignity and rights. When the people of Greece claimed their independence in 1821, they had the strong support of the United States. Greek patriots risked their lives because they knew freedom and democracy were both their proud legacy and their ultimate destiny. Today, our nations remain allies in the cause of freedom and are working to lay the foundations of peace and spread the blessings of liberty around the world.

In celebrating Greek Independence Day, we commemorate the heritage of freedom our countries hold dear, and we remember the Greek Americans whose strong spirit, resolve, and courage helped shape America.

NOW, THEREFORE, I, GEORGE W. BUSH, President of the United States of America, by virtue of the authority vested in me by the Constitution and laws of the United States, do hereby proclaim March 25, 2008, as Greek Independence Day: A National Day of Celebration of Greek and American Democracy. I call upon all Americans to observe this day with appropriate ceremonies and activities.

IN WITNESS WHEREOF, I have hereunto set my hand this twentieth day of March, in the year of our Lord two thousand eight, and of the Independence of the United States of America the two hundred and thirty-second.

[FR Doc. 08-1075

Filed 3-24-08; 8:45 am]

Billing code 3195-01-P